DEPARTMENT OF ENERGY

Federal Energy Regulatory Commission

[Docket No. RM01-10-000; Docket Nos. EY06-7-000, TS06-2-000]

Standards of Conduct for Transmission Providers; Venice Gathering System, L.L.C.; Notice Granting Waiver of Posting and Record Keeping Requirements

November 28, 2005.

On November 9, 2005, Venice Gathering System, L.L.C. (Venice Gathering) filed to seek a temporary emergency waiver of sections 358.4(a)(2) and 358.4(b)(3)(iv) of the Commission's regulations, 18 CFR 358.4(a)(2) and 358.4(b)(3)(iv)(2005), and for any other waivers necessary for Venice Gathering to proceed with the restoration work on its pipeline facilities and on the Venice Gathering Processing Plant necessitated by Hurricane Katrina. Venice Gathering requests the waiver until the earlier of the end of the gas day on December 31, 2005 or the date on which the Venice Gathering system has returned to full pre-hurricane operation.

Effective on the date of this notice, the Commission will grant Venice Gathering a waiver, until the earlier of the end of the gas day on December 31, 2005 or the date on which the Venice Gathering system has returned to full pre-hurricane operation, of the otherwise applicable requirements of section 358.4(a)(2) to record and post a log of emergency-related deviations from the Standards of Conduct and of section 358.4(b)(3)(iv) requirements to post updated information on organizational changes resulting from the acquisition by Targa Resources, Inc. (Targa) of Venice Gathering's managing member, Dynegy Midstream Services, Limited Partnership (Dynegy Midstream).

Venice states that it owns and operates a FERC-jurisdictional natural gas gathering and transmission system consisting of: (1) A twenty-six inch mainline, extending from the South Timbalier Block 151 compressor platform in the Gulf of Mexico to the Venice Plant; (2) a twenty-four inch mainline extending from the South Timbaliler Block 151 compressor platform to the West Delta Block 79A platform; and (3) a twenty-two inch mainline extending from the West Delta Block 79A platform to the Venice Plant located near Venice, Louisiana. Venice states, further, that Hurricane Katrina caused extensive damage to processing plants and offshore pipelines located along the Louisiana Gulf Coast, including the Venice Plant and the Venice Gathering system.

Venice Gathering explains that, due to the substantial quantities of gas production shut-in on its system due to damage caused by Hurricane Katrina, certain Venice Gathering and Targa employees with the required expertise and availability to assist in restoration efforts will engage in communications about the status of the restoration efforts and communications to coordinate joint operations and repair work. Venice Gathering explains, further, that it needs to use all available employees with the requisite skills to assist in repairs to the pipelines and related onshore facilities. According to Venice Gathering, its restoration efforts may result in sharing of information and/or employees between Venice Gathering and its Energy Affiliates and discussions between its employees and third-party employees who also are engaged in hurricane-related restoration efforts. Venice Gathering points out that any potential risk of discrimination that may be associated with the waivers is mitigated by the fact that it currently is out of service, and the waivers will terminate when its system is restored to full operation.

In addition, Venice Gathering states that, due to the resources devoted to the restoration project, it is left with limited resources to update in a timely manner its public website to reflect organizational changes associated with Targa's recent acquisition of Dynegy Midstream, Venice Gathering's managing member. Venice Gathering, therefore, requests that the Commission grant these waivers on an expedited basis.

The Commission has previously granted waivers of the emergency exception recording and posting requirements of the Standards of Conduct due to Hurricane Katrina ¹ and Hurricane Rita.² The waivers, among other things, allowed affected transmission providers to delay for a limited period of time compliance with the requirement of section 358.4(a)(2) of the Commission's regulations to report to the Commission and post on the OASIS or Internet Web site, as applicable, each emergency that resulted in any deviation from the Standards of Conduct. In addition, due to the extreme nature of the emergency in each instance, the Commission also waived, for those limited periods, the requirements to record and retain a record of each deviation of the Standards of Conduct.³

¹ Notice Granting Extension Of Time To Comply With Posting And Other Requirements, Standards of Conduct for Transmission Providers, Docket Nos. EY05-14-000, et al. (August 31, 2005); Notice Waiving Record Keeping Requirements, Standards of Conduct for Transmission Providers, Docket Nos. EY05-14-001, et al. (September 7, 2005).

² Notice Granting Extension Of Time To Comply With Posting And Other Requirements, Standards of Conduct for Transmission Providers, Docket Nos. EY05-20-000, et al. (September 23, 2005).

³ Supra notes 1 and 2.

The Commission grants Venice Gathering a waiver of the recording and posting requirements of sections 358.4(a)(2) and 358.4(b)(3)(iv) of the Commission's regulations in these emergency circumstances, effective on the date of this notice until the earlier of the end of the gas day on December 31, 2005, or the date on which the Venice Gathering system has returned to full pre-hurricane operation, without prejudice to Venice Gathering requesting a further extension, if necessary. The Commission directs Venice Gathering to ensure that the employees affected by this waiver observe the no-conduit prohibition in the Standards of Conduct, 18 CFR 358.5(b)(7) (2005).

Magalie R. Salas,
Secretary.

[FR Doc. E5-6925 Filed 12-6-05; 8:45 am]

BILLING CODE 6717-01-P